DEPARTMENT OF DEFENSE

Department of the Army

[Docket ID USA-2014-0009]

Privacy Act of 1974; System of Records

AGENCY: Department of the Army, DoD.

ACTION: Notice to alter a System of Records.

SUMMARY: The Department of the Army proposes to alter a system of records notice, A0600-63 G3/5/7, entitled “Soldier Fitness Tracker System” in its existing inventory of records systems subject to the Privacy Act of 1974, as amended. This system supports a systematic collection, analysis, interpretation, and reporting of standardized, population based data for the purposes of self-assessing, characterizing, and developing individualized profiles to guide individuals through structured self-development training modules with the goal of improving mental and physical well-being, coping skills and strategies. The Comprehensive Soldier and Family Fitness (CSF2) program, which operates the Soldier Fitness Tracker System, routinely advises leadership of trends and anomalies.

DATES: Comments will be accepted on or before May 19, 2014. This proposed action will be effective on the date following the end of the comment period unless comments are received which result in a contrary determination.

ADDRESSES: You may submit comments, identified by docket number and title, by any of the following methods:

• Federal Rulemaking Portal: http://www.regulations.gov. Follow the instructions for submitting comments.

• Mail: Federal Docket Management System Office, 4800 Mark Center Drive East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Leroy Jones, Department of the Army, Privacy Office, U.S. Army Records Management and Declassification Agency, 7701 Telegraph Road, Casey Building, Suite 144, Alexandria, VA 22325-3905 or by calling (703) 428-6185.

SUPPLEMENTARY INFORMATION: The Department of the Army's notices for systems of records subject to the Privacy Act of 1974 (5 U.S.C. 552a), as amended, have been published in the Federal Register and are available from the address in FOR FURTHER INFORMATION CONTACT or from the Defense Privacy and Civil Liberties Office Web site at http://dpclo.defense.gov/. The proposed systems reports, as required by 5 U.S.C. 552a(r) of the Privacy Act, as amended were submitted on April 11, 2014, to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996, 61 FR 6427).

Dated: April 11, 2014.
Aaron Siegel,
Alternate OSD Federal Register Liaison Officer, Department of Defense.

A0600-63 G3/5/7

System name:

Soldier Fitness Tracker System (July 20, 2009, 74 FR 35169)

Changes:

* * * * *

System location:

Delete entry and replace with “Army Analytics Group (AAG), 5253 Business Center Drive, Suite A, Fairfield, CA 93940-5703.”

Categories of individuals covered by the system:

Delete entry and replace with “Current Army military personnel (Active Duty, Reserve and National Guard), family members of Army service members and Army civilian employees; current Navy, Marine Corps and Air Force military personnel (Active Duty, Reserve and National Guard).”

Categories of records in the system:

Delete entry and replace with “The Soldier Fitness Tracker System contains up-to-date and historical data related to family, emotional, spiritual, social, and physical fitness. It includes names, Social Security Number (SSN), DoD ID Number, dates of birth, gender, race, ethnic category, rank/grade, service, service component, occupation, education level, marital status, dependent quantities, home and unit location data, Unit Identification Code, component mobilization dates, Military Occupation Specialties Code, additional Skill Identifier Code, education level, mailing/home address, personal email address. The system will contain data on periodic and deployment health appraisal information and historical data on personnel and deployments including medical encounter information, periodic health and wellness survey information, readiness status information, longitudinal demographic and occupational information, assignment and deployment information, and results of aptitude tests. It also includes information related to enrollment and completion of programs to improve physical and mental functioning.”

Authority for maintenance of the system:

Delete entry and replace with “5 U.S.C. 301, Departmental Regulations; 10 U.S.C. 136, Under Secretary of Defense for Personnel and Readiness; 10 U.S.C. 3013, Secretary of the Army; DoD Instruction 1100.13, Surveys of DoD Personnel; DoD Directive 6490.2, Comprehensive Health Surveillance; DoD Directive 6490.3, Deployment Health; DoD Directive 1404.10, Civilian Expeditionary Workforce; AR 600-63, The Army Health Program; and E.O. 9397 (SSN), as amended.”

Purpose(s):

Delete entry and replace with “The Soldier Fitness Tracker System supports a systematic collection, analysis, interpretation, and reporting of standardized, population based data for the purposes of self-assessing, characterizing, and developing individualized profiles to guide individuals through structured self-development training modules with the goal of improving mental and physical well-being, coping skills and strategies. The Comprehensive Soldier and Family Fitness (CSF2) program, which operates the Soldier Fitness Tracker System, routinely advises leadership of trends and anomalies.

A version of the instrument, tailored for Navy, Marine Corps and Air Force military personnel, is provided via a separate link to those services as an introduction to the available capabilities of the system and for consideration to apply these tools in their ranks.

The Defense Health Agency (DHA) administers the assessment instrument in its health and wellness online training environment. DHA is a DoD level health organization serving service members in all DoD branches of service.”

Routine uses of records maintained in the system, including categories of users and the purposes of such uses:

Delete entry and replace with “In addition to those disclosures generally permitted under 5 U.S.C. 552a(b) of the Privacy Act of 1974, as amended, these records contained therein may specifically be disclosed outside the DoD as a routine use pursuant to 5 U.S.C. 552a(b)(3) as follows:

The DoD Blanket Routine Uses set forth at the beginning of the Army's compilation of systems of records notices may apply to this system.

Note: This system of records contains Protected Health Information. The DoD Health Information Privacy Regulation (DoD 6025.18-R) issued pursuant to the Health Insurance Portability and Accountability Act of 1996, applies to most such health information. DoD 6025.18-R may place additional procedural requirements on the uses and disclosures of such information beyond those found in the Privacy Act of 1974, as amended, or mentioned in this system of records notice.”

* * * * *

Retrievability:

Delete entry and replace with “By name, SSN and/or DoD ID Number.”

* * * * *

Retention and disposal:

Delete entry and replace with “Records are kept until no longer needed for business but not longer than 6 years. Records are destroyed by erasing.”

System manager(s) and address:

Delete entry and replace with “Comprehensive Soldier and Family Fitness, HQDA, G-3/5/7, Crystal Square Five, 2nd Floor, 251 18th Street South, Arlington, VA 22202-3540.”

Notification procedure:

Delete entry and replace with “Individuals seeking to determine whether information about themselves is contained in this system should address written inquiries to the HQDA G-3/5/7 Comprehensive Soldier and Family Fitness (CSF2), Crystal Square Five, 2nd Floor, 251 18th Street South, Arlington, VA 22202-3540.

For verification purposes, individual should provide their full name, SSN and/or DoD ID number, any details which may assist in locating records, and their signature.

In addition, the requester must provide a notarized statement or an unsworn declaration made in accordance with 28 U.S.C. 1746, in the following format:

If executed outside the United States:

I declare (or certify, verify, or state) under penalty of perjury under the laws of the United State of America that the foregoing is true and correct. Executed on (date). (Signature).

If executed within the United States, its territories, possessions, or commonwealths: I declare (or certify, verify, or state) under penalty of perjury that the foregoing is true and correct. Executed on (date). (Signature).”

Record access procedures:

Delete entry and replace with “Individuals seeking access to information about themselves contained in this system should address written inquiries to the HQDA G-3/5/7, Comprehensive Soldier and Family Fitness (CSF2), Crystal Square Five, 2nd Floor, 251 18th Street South, Arlington, VA 22202-3540.

For verification purposes, individual should provide their full name, SSN and/or DoD ID number, any details which may assist in locating records, and their signature.

In addition, the requester must provide a notarized statement or an unsworn declaration made in accordance with 28 U.S.C. 1746, in the following format:

If executed outside the United States:

I declare (or certify, verify, or state) under penalty of perjury under the laws of the United States of America that the foregoing is true and correct. Executed on (date). (Signature).

If executed within the United States, its territories, possessions, or commonwealths: I declare (or certify, verify, or state) under penalty of perjury that the foregoing is true and correct. Executed on (date). (Signature).”

* * * * *

[FR Doc. 2014-08682 Filed 4-16-14; 8:45 am]

BILLING CODE 5001-06-P